DEPARTMENT OF HOMELAND SECURITY

Transportation Security Administration

49 CFR Part 1572

[Amendment No. 1572-9]

Transportation Security Administration Postal Zip Code Change; Technical Amendment

AGENCY: Transportation Security Administration, DHS.

ACTION: Final rule.

SUMMARY: This rule is a technical change to correct a regulatory reference to TSA's postal zip code. This rule revises existing regulations to reflect organizational changes and it has no substantive effect on the public.

DATES: Effective March 28, 2012.

FOR FURTHER INFORMATION CONTACT: Devara Achuko, Office of the Chief Counsel, TSA-2, Transportation Security Administration, 601 South 12th Street, Arlington, VA 20598-6002; telephone (571) 227-2649; facsimile (571) 227-1378; email devara.achuko@dhs.gov.

SUPPLEMENTARY INFORMATION:

Justification for Immediate Adoption

This action is being taken without providing the opportunity for notice and comment, and it provides for an effective date less than 30 days after publication in the Federal Register.

This rule relates only to agency organization, procedure, and practice. Therefore, under 5 U.S.C. 553(b)(3)(A), this rule is exempt from notice and comment rulemaking requirements. The changes made by the rule will have no substantive effect on the public; therefore, under 5 U.S.C. 553(d), this rule may become effective less than 30 days after publication in the Federal Register.

Background

Beginning December 17, 2008, the postal zip codes for TSA headquarters facilities in Virginia and Maryland changed to new zip codes that are unique to TSA to enhance the safety and security of incoming mail to the Department of Homeland Security (DHS) and its components. The physical locations of TSA's facilities, however, did not change. The new TSA zip code for Virginia addresses changed to 20598 and for Maryland addresses changed to 20588. TSA locations in Washington, DC continued to use their existing zip codes. In addition, the last four digits of the new zip code format (zip + 4) now represent an office's routing symbol.

Since 2008, through other rulemaking actions, TSA revised most sections of TSA regulations (chapter XII of title 49, Transportation, of the Code of Federal Regulations, parts 1500-1699) that contain TSA mailing addresses with outdated postal zip codes. The only remaining zip code that is out of date is § 1572.5(e)(2).

Technical Amendment

This document amends section 1572.5(e)(2) in order to make this editorial change to the zip code from “22202-4220” to “20598-6019”. TSA makes no other changes to the section.

List of Subjects in 49 CFR Part 1572

Appeals, Commercial driver's license, Criminal history background checks, Explosives, Facilities, Hazardous materials, Incorporation by reference, Maritime security, Motor carriers, Motor vehicle carriers, Ports, Seamen, Security measures, Security threat assessment, Vessels, Waivers.

The Amendment

For the reasons set forth in the preamble, the Transportation Security Administration amends part 1572 of Chapter XII of Title 49, Code of Federal Regulations, as follows:

PART 1572—CREDENTIALING AND SECURITY THREAT ASSESSMENTS

1. The authority citation for part 1572 continues to read as follows:

Authority: 46 U.S.C. 70105; 49 U.S.C. 114, 5103a, 40113, and 46105; 18 U.S.C. 842, 845; 6 U.S.C. 469.

Subpart A—Procedures and General Standards

§ 1572.5 [Amended]

2. In § 1572.5(e)(2), remove the numbers “22202-4220”, and add in their place, the numbers “20598-6019”.

Issued in Arlington, Virginia, on March 21, 2012.
John S. Pistole,
Administrator.

[FR Doc. 2012-7401 Filed 3-27-12; 8:45 am]

BILLING CODE 9110-05-P